DEPARTMENT OF HOMELAND SECURITY

Bureau of Citizenship and Immigration Services

[CIS No. 2319-04]

Extension of the Designation of Temporary Protected Status for Somalia

AGENCY: Bureau of Citizenship and Immigration Services, DHS.

ACTION: Notice.

SUMMARY: The Temporary Protected Status (TPS) designation for Somalia will expire on September 17, 2004. This notice extends the Secretary of Homeland Security's designation of Somalia for 12 months until September 17, 2005, and sets forth procedures necessary for nationals of Somalia (or aliens having no nationality who last habitually resided in Somalia) with TPS to re-register and to apply for an extension of their employment authorization documentation for the additional 12-month period. Re-registration is limited to persons who registered under the initial designation (which was announced on September 16, 1991) and also timely re-registered under each subsequent extension of the designation, or who registered under the re-designation (which was announced on September 4, 2001) and also timely re-registered under each extension of the re-designation. Certain nationals of Somalia (or aliens having no nationality who last habitually resided in Somalia) who previously have not applied for TPS may be eligible to apply under the late initial registration provisions.

EFFECTIVE DATES: The extension of Somalia's TPS designation is effective September 17, 2004, and will remain in effect until September 17, 2005. The 60-day re-registration period begins August 6, 2004, and will remain in effect until October 5, 2004.

FOR FURTHER INFORMATION CONTACT: Colleen Cook, Residence and Status Services, Office of Programs and Regulations Development, Bureau of Citizenship and Immigration Services, Department of Homeland Security, 425 “I” Street, NW., Ullico Building, 3rd Floor, Washington, DC 20529, telephone (202) 514-4754.

SUPPLEMENTARY INFORMATION:

What Authority Does the Secretary of the Department of Homeland Security Have To Extend the Designation of TPS for Somalia?

On March 1, 2003, the functions of the Immigration and Naturalization Service (Service) transferred from the Department of Justice (DOJ) to the Department of Homeland Security (DHS) pursuant to the Homeland Security Act of 2002, Public Law 107-296. The responsibilities for administering TPS held by the Service were transferred to the Bureau of Citizenship and Immigration Services (BCIS).

Under section 244 of the Immigration and Nationality Act (Act), 8 U.S.C. 1254a, the Secretary of DHS, after consultation with appropriate agencies of the Government, is authorized to designate a foreign state or (part thereof) for TPS. The Secretary of DHS may then grant TPS to eligible nationals of that foreign state (or aliens having no nationality who last habitually resided in that state).

Section 244(b)(3)(A) of the Act requires the Secretary of DHS to review, at least 60 days before the end of the TPS designation or any extension thereof, the conditions in a foreign state designated for TPS to determine whether the conditions for a TPS designation continue to be met and, if so, the length of an extension of TPS. 8 U.S.C. 1254a(b)(3)(A). If the Secretary of DHS determines that the foreign state no longer meets the conditions for TPS designation, he shall terminate the designation, as provided in section 244(b)(3)(B) of the Act. 8 U.S.C. 1254a(b)(3)(B). Finally, if the Secretary of DHS does not determine that a foreign state (or part thereof) no longer meets the conditions for designation at least 60 days before the designation or extension is due to expire, section 244(b)(3)(C) of the Act provides for an automatic extension of TPS for an additional period of 6 months (or, in the discretion of the Secretary of DHS, a period of 12 or 18 months). 8 U.S.C. 1254a(b)(3)(C).

Why Did the Secretary of DHS Decide To Extend the TPS Designation for Somalia?

On September 16, 1991, the Attorney General published a notice in the Federal Register at 56 FR 46804 designating TPS for Somalia. The Attorney General extended this TPS designation annually, determining in each instance that the conditions warranting such designation continued to be met. The Attorney General extended and re-designated TPS for Somalia by publishing a notice in the Federal Register on September 4, 2001, at 66 FR 46288, based upon extraordinary and temporary conditions resulting from the armed conflict and lack of functioning state institutions. The last extension of TPS for Somalia by the Attorney General was published in the Federal Register on July 26, 2002, at 67 FR 48950.

After the transfer of functions and authority from the Service and DOJ to BCIS and DHS, DHS extended TPS for Somalia by Notice published in the Federal Register on July 21, 2003, at 68 FR 43147. This extension expires on September 17, 2004.

Since the date of the most recent extension, DHS and the Department of State (DOS) have continued to review conditions in Somalia. It is determined that a 12-month extension is warranted because the extraordinary and temporary conditions that prompted designation persist. Further, it is determined that it is not contrary to the national interest of the United States to permit nationals of Somalia (or aliens having no nationality who last habitually resided in Somalia) who otherwise qualify for TPS to remain temporarily in the United States. 8 U.S.C. 1254a(b)(1)(C).

DOS observes that more than nine years after the withdrawal of the United Nations Operation in Somalia and thirteen years after the fall of Mohammed Siad Barre's regime, Somalia still lacks a central government. The mandate of the Transitional National Government for Somalia (TNG) expired in August 2003. In October 2002, the Inter-Governmental Authority (IGAD) was established, but has failed to produce a Somali central government. (DOS Recommendation (May 13, 2004)). The BCIS Resource Information Center (RIC) notes that the third and final phase of the peace talks did not fully start as scheduled on May 6, 2004 due to disagreements among delegates over a power-sharing formula. (RIC Report (May 11, 2004)). In January 2004 Somali leaders signed an agreement to establish a new Federal Transitional Parliament. Several faction leaders have since retracted their support for the agreement. (DOS Recommendation (May 13, 2004)).

Fighting has continued throughout the country, particularly in Mogadishu, Las Anod and Baidoa, as well as in the Bari, Bay, Bakol, Gedo, Lower Shabelle, Middle Shabelle, and Middle Juba regions. Inter-clan fighting throughout the country continues to increase. Id. The BCIS RIC notes that, although most of the armed conflict has been confined to the central and southern part of Somalia, tensions have arisen between the self-declared republic of Somaliland and the self-declared autonomous region of Puntland over the disputed regions of Sool and Sanaag. (RIC Report (May 11, 2004)). The increasing instability in Puntland caused many international humanitarian organizations to withdraw international staff from the region. (DOS Recommendation (May 13, 2004)).

The BCIS RIC reports a continued complex emergency situation in Somalia. Increasing conflict in the north is disrupting agricultural activity and further limiting access to health and social services. A number of Somalis are threatened by the drought in the northern and central regions of the country. (RIC Report (May 11, 2004)). The Sool Plateau in the north and the regions of Togdheer, Lowere Nugal and the central area face extreme food shortages due to a drought. Id. Additionally, Somalia currently lacks the institutions to address the demands of a large volume of returnees from the United States. (DOS Recommendation (May 13, 2004)).

Based upon this review, the Secretary of DHS, after consultation with appropriate government agencies, finds that the conditions that prompted designation of Somalia for TPS continue to be met. 8 U.S.C. 1254a(b)(3). There are extraordinary and temporary conditions in Somalia such that it is not prudent to return nationals of Somalia (or aliens having no nationality who last habitually resided in Somalia) if these aliens meet the other statutory requirements for TPS. The Secretary of DHS also finds that permitting nationals of Somalia (or aliens having no nationality who last habitually resided in Somalia) who meet the eligibility requirements of TPS to remain temporarily in the United States is not contrary to the national interest of the United States. 8 U.S.C. 1254a(b)(1)(C). On the basis of these findings, the Secretary of DHS concludes that the TPS designation for Somalia should be extended for an additional 12-month period. 8 U.S.C. 1254a(b)(3)(C).

If I Currently Have TPS Through the Somalia TPS Designation, Do I Still Re-Register for TPS?

Yes. If you already have received TPS benefits through the Somalia TPS designation, your benefits will expire on September 17, 2004. Accordingly, individual TPS beneficiaries must comply with the re-registration requirements described below in order to maintain their TPS benefits through September 17, 2005. TPS benefits include temporary protection against removal from the United States, as well as employment authorization, during the TPS designation period and any extension thereof. 8 U.S.C. 1254a(a)(1).

If I am Currently Registered for TPS, How Do I Re-Register for an Extension?

All persons previously granted TPS under the Somalia designation who wish to maintain such status must apply for an extension by filing (1) a Form I-821, Application for Temporary Protected Status, without the filing fee; (2) a Form I-765, Application for Employment Authorization; and (3) two identification photographs (1½ inches x 1½ inches). See the chart below to determine whether you must submit the one hundred and seventy five dollar ($175) filing fee with Form I-765. Applicants for an extension of TPS benefits do not need to be re-fingerprinted and thus need not pay the seventy-dollar ($70) biometric services fee. Children beneficiaries of TPS who have reached the age of fourteen (14) but were not previously fingerprinted must pay the seventy dollar ($70) biometric services fee with the application for extension.

An application submitted without the required fee and/or photos will be returned to the applicant. Submit the completed forms and applicable fee, if any, to the BCIS District Office having jurisdiction over your place of residence during the 60-day re-registration period that begins August 6, 2004, and ends October 5, 2004.

If | Then
You are applying for employment authorization until September 17, 2005 | You must complete and file the Form I-765, Application for Employment Authorization, with the $175 fee.
You already have employment authorization or do not require employment authorization | You must complete and file Form I-765 with no fee.¹
You are applying for employment authorization and are requesting a fee waiver | You must complete and file: (1) Form I-765 and (2) a fee waiver request and affidavit (and any other information) in accordance with 8 CFR 244.20.
¹ An applicant who does not seek employment authorization documentation does not need to submit the $175 fee, but must still complete and submit Form I-765 for data gathering purposes.

How Does an Application for TPS Affect my Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii); 8 U.S.C. 1254a(c)(2)(B)(ii). Also, a person convicted of any felony or two misdemeanors committed in the United States is not eligible for TPS. 8 U.S.C. 1245a(c)(2)(B)(i).

Can I Apply for Another Immigration Benefit While Registered for TPS?

Yes. Registration for TPS does not prevent you from applying for another non-immigrant status or from filing for adjustment of status based on an immigrant petition. 8 U.S.C. 1254a(a)(5). TPS alone, however, does not lead to adjustment of status. 8 U.S.C. 1254a(f)(1). For the purposes of change of status and adjustment of status, a registered TPS beneficiary is considered as being in and maintaining lawful status as a nonimmigrant. 8 U.S.C. 1254a(f)(4).

Does This Extension Allow Nationals of Somalia (or Aliens Having No Nationality Who Last Habitually Resided in Somalia) Who Entered the United States After September 4, 2001, To File for TPS?

No. This is a notice of an extension of TPS, not a notice of re-designation of TPS for Somalia. An extension of TPS does not change the required dates of continuous residence and continuous physical presence in the United States. This extension does not expand TPS availability to those beyond the current TPS eligibility requirements of Somalia. To be eligible for benefits under this extension, nationals of Somalia (or aliens having no nationality who last habitually resided in Somalia) must have been continuously physically present and continuously resided in the United States since September 4, 2001, the date of the last re-designation of TPS for Somalia.

What is Late Initial Registration?

Some persons may be eligible for late initial registration under 8 U.S.C. 1254a(c)(1)(A), 8 U.S.C. 1254a(c)(2), and 8 CFR 244.2. To apply for late initial registration an applicant must:

(1) Be a national of Somalia (or alien who has no nationality and who last habitually resided in Somalia);

(2) Have been continuously physically present in the United States since September 4, 2001;

(3) Have continuously resided in the United States since September 4, 2001; and

(4) Be both admissible as an immigrant, except as provided under section 244(c)(2)(A) of the Act, and not ineligible under section 244(c)(2)(B) of the Act.

Additionally, the applicant must be able to demonstrate that during the registration period for the initial designation (from September 16, 1991 to September 16, 1992), or during the registration period for the re-designation (from September 4, 2001 to September 17, 2002), he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Was the spouse or child of an alien currently eligible to be a TPS registrant.

An applicant for late initial registration must file an application for late registration no later than 60 days after the expiration or termination of the conditions described above. 8 CFR 244.2(g).

What Happens When this Extension of TPS Expires on September 17, 2005?

At least 60 days before this extension of TPS expires on September 17, 2005, the Secretary of DHS will review conditions in Somalia and determine whether the conditions for TPS designation continue to be met at that time, or whether the TPS designation should be terminated. Notice of that determination, including the basis for the determination, will be published in the Federal Register.

If the TPS designation is extended at that time, an alien who has received TPS benefits must re-register under the extension in order to maintain TPS benefits. If, however, the Secretary of DHS terminates the TPS designation, TPS beneficiaries will maintain the immigration status they had before TPS (unless that status had since expired or been terminated) or any other status they may have acquired while registered for TPS. Accordingly, if an alien had no lawful immigration status prior to receiving TPS and did not obtain any status during the TPS period, he or she will revert to that unlawful status upon termination of the TPS designation.

Notice of Extension of Designation of TPS for Somalia

By the authority vested in DHS under sections 244(b)(1)(C), (b)(3)(A), and (b)(3)(C) of the Act, DHS has consulted with the appropriate government agencies and determined that the conditions that prompted designation of Somalia for TPS continue to be met. 8 U.S.C. 1254a(b)(3)(A). Accordingly, DHS orders as follows:

(1) The designation of Somalia under section 244(b)(1)(C) of the Act is extended for an additional 12-month period from September 17, 2004, to September 17, 2005. 8 U.S.C. 1254a(b)(3)(C).

(2) There are approximately 324 nationals of Somalia (or aliens having no nationality who last habitually resided in Somalia) who have been granted TPS and who are eligible for re-registration.

(3) To maintain TPS, a national of Somalia (or an alien having no nationality who last habitually resided in Somalia) who was granted TPS during the initial designation period or re-designation period must re-register for TPS during the 60-day re-registration period from August 6, 2004, until October 5, 2004.

(4) To re-register, the applicant must file the following: (1) Form I-821, Application for Temporary Protected Status; (2) Form I-765, Application for Employment Authorization; and (3) two identification photographs (1½ inches by 1½ inches). Applications submitted without the required fee and/or photos will be returned to the applicant. There is no fee for filing a Form I-821 for re-registration. If the applicant requests employment authorization, he or she must submit one hundred and seventy five dollars ($175) or a properly documented fee waiver request, pursuant to 8 CFR 244.20, with the Form I-765. An applicant who does not request employment authorization must nonetheless file Form I-765 along with Form I-821, but is not required to submit the fee. The seventy-dollar ($70) biometric services fee is required only for children beneficiaries of TPS who have reached the age of 14 but were not previously fingerprinted. Failure to re-register without good cause will result in the withdrawal of TPS. 8 U.S.C. 1254a(c)(3)(C). Some persons who had not previously applied for TPS may be eligible for late initial registration under 8 CFR 244.2.

(5) At least 60 days before this extension terminates on September 17, 2005, the Secretary will review the designation of Somalia for TPS and determine whether the conditions for designation continue to be met. 8 U.S.C. 1254a(b)(3)(A). Notice of that determination, including the basis for the determination, will be published in the Federal Register. 8 U.S.C. 1254a(b)(3)(A).

(6) Information concerning the extension of designation of Somalia for TPS will be available at local BCIS offices upon publication of this notice and on the BCIS Web site at http://uscis.gov.

Dated: July 19, 2004.
Tom Ridge,
Secretary of Homeland Security.

[FR Doc. 04-18005 Filed 8-5-04; 8:45 am]

BILLING CODE 4410-10-P